DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Certification Requirements for NOAA's Hydrographic Product Quality Assurance Program.

OMB Control Number: 0648-0507.

Form Number(s): NA.

Type of Request: Regular submission (extension of a current information collection).

Number of Respondents: 5.

Average Hours per Response: Initial application, documentation to accompany an item submitted for certification, and request for reconsideration of a NOAA decision, 4 hours each; inquiries, 1 hour each.

Burden Hours: 16.

Needs and Uses: This request is for a regular submission (extension) of a current information collection.

NOAA was mandated to develop and implement a quality assurance program under which the Administrator may certify privately-made hydrographic products. NOAA has established procedures by which hydrographic products are proposed for certification; by which standards and compliance tests are developed, adopted, and applied for those products; and by which certification is awarded or denied. The application and recordkeeping requirements at 15 CFR 996 are basis for this collection of information.

Affected Public: Business or other for-profit organizations.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: April 15, 2011.
Gwellnar Banks,
Management Analyst, Office of the Chief Information Officer.

[FR Doc. 2011-9608 Filed 4-20-11; 8:45 am]

BILLING CODE 3510-22-P